DEPARTMENT OF COMMERCE

International Trade Administration

[A-489-816, A-533-857, A-552-817, A-580-870, A-823-815]

Certain Oil Country Tubular Goods From India, the Republic of Korea, the Republic of Türkiye, the Socialist Republic of Vietnam, and Ukraine: Final Results of the Expedited Second Sunset Reviews of the Antidumping Duty Orders

AGENCY: Enforcement and Compliance, International Trade Administration, Department of Commerce.

SUMMARY: The U.S. Department of Commerce (Commerce) finds that revocation of the antidumping duty (AD) orders on certain oil country tubular goods (OCTG) from India, the Republic of Korea (Korea), the Republic of Türkiye (Türkiye), the Socialist Republic of Vietnam (Vietnam), and Ukraine would be likely to lead to continuation or recurrence of dumping, at the levels indicated in the “Final Results of Sunset Reviews” section of this notice.

DATES: Applicable January 9, 2026.

FOR FURTHER INFORMATION CONTACT: David De Falco, Trade Agreements Policy and Negotiations, Enforcement and Compliance, International Trade Administration, U.S. Department of Commerce, 1401 Constitution Avenue NW, Washington, DC 20230; telephone: 202-482-2178.

SUPPLEMENTARY INFORMATION:

Background

On September 10, 2014, Commerce published the India Order, Korea Order, Türkiye Order, and Vietnam Order in the Federal Register.¹ On July 16, 2019, following the termination of the Suspension Agreement suspending the antidumping investigation on OCTG from Ukraine, Commerce published the Ukraine Order in the Federal Register.² On July 1, 2025, Commerce published the notice of initiation of this second sunset review of the Orders, pursuant to section 751(c) of the Tariff Act of 1930, as amended (the Act).³

¹ See Certain Oil Country Tubular Goods from India, the Republic of Korea, Taiwan, the Republic of Türkiye, and the Socialist Republic of Vietnam: Antidumping Duty Orders; and Certain Oil Country Tubular Goods from the Socialist Republic of Vietnam: Amended Final Determination of Sales at Less Than Fair Value, 79 FR 53691 (September 10, 2014) (India Order, Korea Order, Türkiye Order, and Vietnam Order).

² See Suspension of Antidumping Investigation: Certain Oil Country Tubular Goods from Ukraine, 79 FR 41959 (July 18, 2014) (Suspension Agreement); see also Termination of the Suspension Agreement on Certain Oil Country Tubular Goods from Ukraine, Rescission of Administrative Review, and Issuance of Antidumping Duty Order, 84 FR 33918 (July 16, 2019) (Ukraine Order) (collectively with India Order, Korea Order, Türkiye Order, and Vietnam Order, Orders).

³ See Initiation of Five-Year (Sunset) Reviews, 90 FR 28722 (July 1, 2025).

On July 16, 2025, Commerce received timely and complete notices of intent to participate in the sunset reviews from domestic interested parties, the U.S. OCTG Manufacturers Association (USOMA) and United States Steel Corporation (U.S. Steel), within the deadline specified in the 19 CFR 351.218(d)(1)(i).⁴ USOMA claimed interested party status under section 771(9)(E) of the Act as a trade or business association, all of whose members produce the domestic like product in the United States; U.S. Steel claimed interested party status under section 771(9)(C) of the Act as a U.S. producer of the domestic like product.⁵ On July 21, 2025, Commerce notified the U.S. International Trade Commission (ITC) that it had received a notice of intent to participate from the domestic interested parties.⁶ On July 31, 2025, pursuant to 19 CFR 351.218(d)(3)(i), domestic interested parties filed timely and adequate substantive responses.⁷

⁴ See U.S. Steel's Letter, “Second Five-Year (“Sunset”) Review of Antidumping and Countervailing Duty Orders on Oil Country Tubular Goods from India: Notice of Intent to Participate,” dated July 16, 2025; USOMA's Letter, “Five-Year (“Sunset”) Review of the Antidumping Duty Order on Certain Oil Country Tubular Goods from India: Domestic Interested Parties' Notice of Intent to Participate,” dated July 16, 2025; U.S. Steel's Letter, “Second Five-Year (“Sunset”) Review of Antidumping Duty Order on Oil Country Tubular Goods from Korea: Notice of Intent to Participate,” dated July 16, 2025; USOMA's Letter, “Five-Year (“Sunset”) Review of the Antidumping Duty Order on Certain Oil Country Tubular Goods from the Republic of Korea: Domestic Interested Parties' Notice of Intent to Participate,” dated July 16, 2025; U.S. Steel's Letter, “Second Five-Year (“Sunset”) Review of Antidumping and Countervailing Duty Orders on Oil Country Tubular Goods from Turkey: Notice of Intent to Participate,” dated July 16, 2025; USOMA's Letter, “Five-Year (“Sunset”) Review of the Antidumping Duty Order on Certain Oil Country Tubular Goods from the Republic of Türkiye: Domestic Interested Parties' Notice of Intent to Participate,” dated July 16, 2025; U.S. Steel's Letter, “Second Five-Year (“Sunset”) Review of Antidumping Duty Order on Oil Country Tubular Goods from Vietnam: Notice of Intent to Participate,” dated July 16, 2025; USOMA's Letter, “Five-Year (“Sunset”) Review of the Antidumping Duty Order on Certain Oil Country Tubular Goods from the Socialist Republic of Vietnam: Domestic Interested Parties' Notice of Intent to Participate,” dated July 16, 2025; U.S. Steel's Letter, “Second Five-Year (“Sunset”) Review of Antidumping Duty Order on Oil Country Tubular Goods from Ukraine: Notice of Intent to Participate,” dated July 16, 2025; and USOMA's Letter, “Five-Year (“Sunset”) Review of the Antidumping Duty Order on Certain Oil Country Tubular Goods from Ukraine: Domestic Interested Parties' Notice of Intent to Participate,” dated July 16, 2025 (collectively, Notice of Intent Letters).

⁵ See Notice of Intent Letters.

⁶ See Commerce's Letter, “Sunset Reviews Initiated on July 1, 2025,” dated July 21, 2025.

⁷ See Domestic Interested Parties' Letter, “Oil-Country Tubular Goods from India: Substantive Response of the Domestic Industry to Commerce's Notice of Initiation of Five-Year (“Sunset”) Review,” dated July 31, 2025; Domestic Interested Parties' Letter, “Five-Year (“Sunset”) Review of the Antidumping Duty Order on Certain Oil Country Tubular Goods from the Republic of Korea: Domestic Interested Parties' Substantive Response,” dated July 31, 2025; Domestic Interested Parties' Letter, “Oil-Country Tubular Goods from Türkiye: Substantive Response of the Domestic Industry to Commerce's Notice of Initiation of Five-Year (“Sunset”) Reviews,” dated July 31, 2025; Domestic Interested Parties' Letter, “Five-Year (“Sunset”) Review of the Antidumping Duty Order on Certain Oil Country Tubular Goods from the Socialist Republic of Vietnam: Domestic Interested Parties' Substantive Response,” dated July 31, 2025; and Domestic Interested Parties' Letter, “Five-Year (“Sunset”) Review of the Antidumping Duty Order on Certain Oil Country Tubular Goods from Ukraine: Domestic Interested Parties' Substantive Response,” dated July 31, 2025.

Commerce did not receive a substantive response from any respondent interested party. On August 22, 2025, Commerce notified the ITC that it did not receive substantive response from any respondent interested parties.⁸ As a result, pursuant to section 751(c)(3)(B) of the Act and 19 CFR 351.218(e)(1)(ii)(C)(2), Commerce is conducting expedited (120-day) sunset reviews of the Orders.

⁸ See Commerce's Letter, “Sunset Reviews Initiated on July 1, 2025,” dated August 22, 2025.

Due to the lapse in appropriations and Federal Government shutdown, on November 14, 2025, Commerce tolled all deadlines in administrative proceedings by 47 days.⁹ Additionally, due to a backlog of documents that were electronically filed via Enforcement and Compliance's Antidumping and Countervailing Duty Centralized Electronic Service System (ACCESS) during the Federal Government shutdown, on November 24, 2025, Commerce tolled all deadlines in administrative proceedings by an additional 21 days.¹⁰ Accordingly, the deadline for these final results is now January 5, 2026.

⁹ See Memorandum, “Deadlines Affected by the Shutdown of the Federal Government,” dated November 14, 2025.

¹⁰ See Memorandum, “Tolling of all Case Deadlines,” dated November 24, 2025.

Scope of the Orders

The product covered by these Orders is OCTG from India, Korea, Türkiye, Vietnam, and Ukraine. For the full description of the scope of the Orders, see the Issues and Decisions Memorandum.¹¹

¹¹ See Memorandum, “Issues and Decision Memorandum for the Final Results of the Expedited Second Sunset Reviews of the Antidumping Duty Orders on Certain Oil Country Tubular Goods from India, the Republic of Korea, the Republic of Türkiye, the Socialist Republic of Vietnam, and Ukraine,” dated concurrently with, and hereby adopted by, this notice.

Analysis of Comments Received

A complete discussion of all issues raised in this sunset review, including the likelihood of continuation or recurrence of dumping in the event of revocation of the Orders and the magnitude of the margins likely to prevail if the Orders were to be revoked, is provided in the accompanying Issues and Decision Memorandum.¹² A list of the topics discussed in the Issues and Decision Memorandum is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

¹² Id.

Final Results of Sunset Reviews

Pursuant to sections 751(c)(1), 752(c)(1) and (3) of the Act, Commerce determines that revocation of the Orders would be likely to lead to continuation or recurrence of dumping, and that the magnitude of the dumping margins likely to prevail would be weighted-average dumping margins up to 11.24 percent for India, 6.49 percent for Korea, 35.86 percent for Türkiye, 111.47 percent for Vietnam, and 7.47 percent for Ukraine.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: January 5, 2026.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2026-00207 Filed 1-8-26; 8:45 am]

BILLING CODE 3510-DS-P